DEPARTMENT OF ENERGY

Federal Energy Regulatory Commission

Combined Notice of Filings

Take notice that the Commission has received the following Natural Gas Pipeline Rate and Refund Report filings:

Filings Instituting Proceedings

Docket Numbers: RP15-904-003.

Applicants: Gas Transmission Northwest.

Description: Petition for Approval of Settlement of Gas Transmission Northwest LLC under RP15-904.

Filed Date: 09/29/21.

Accession Number:20210929-5159.

Comment Date: 5 p.m. ET 10/12/21.

Docket Numbers:RP21-1001-002.

Applicants: Texas Eastern Transmission, LP.

Description: Submits tariff filing per 154.203: Response to Show Cause (RP21-1001) Compliance Filing to be effective 12/31/21.

Filed Date: 09/30/2021.

Accession Number: 20210930-5184.

Comment Date: 10/12/21.

Docket Numbers: RP21-1150-000.

Applicants:Wyoming Interstate Company, L.L.C.

Description: Wyoming Interstate Company, L.L.C. submits tariff filing per 154.203: Operational Purchase and Sale Report for Young Gas 2021 to be effective N/A under RP21-1150.

Filed Date: 09/28/21.

Accession Number: 20210928-5040.

Comment Date: 5 p.m. ET 10/12/21.

Docket Numbers:RP21-1173-000.

Applicants: Natural Gas Pipeline Company of America LLC.

Description: § 4(d) Rate Filing: Amendment to a Negotiated Rate Agreement Filing—ConocoPhillips Company to be effective 10/1/2021.

Filed Date: 9/30/21.

Accession Number: 20210930-5001.

Comment Date: 5 p.m. ET 10/12/21.

Docket Numbers: RP21-1174-000.

Applicants: Alliance Pipeline L.P.

Description: § 4(d) Rate Filing: APL 2021 Fuel Filing to be effective 11/1/2021.

Filed Date: 9/30/21.

Accession Number: 20210930-5009.

Comment Date: 5 p.m. ET 10/12/21.

Docket Numbers: RP21-1175-000.

Applicants: Saltville Gas Storage Company L.L.C.

Description: § 4(d) Rate Filing: SGSC 2021 Fuel Filing to be effective 11/1/2021.

Filed Date: 9/30/21.

Accession Number: 20210930-5010.

Comment Date: 5 p.m. ET 10/12/21.

Docket Numbers: RP21-1176-000.

Applicants: Carolina Gas Transmission, LLC.

Description: § 4(d) Rate Filing: CGT—2021 FRQ and TDA Report to be effective 11/1/2021.

Filed Date: 9/30/21.

Accession Number: 20210930-5011.

Comment Date: 5 p.m. ET 10/12/21.

Docket Numbers: RP21-1177-000.

Applicants: Algonquin Gas Transmission, LLC.

Description: § 4(d) Rate Filing: Negotiated Rates—Various Releases eff 10-1-2021 to be effective 10/1/2021.

Filed Date: 9/30/21.

Accession Number: 20210930-5027.

Comment Date:5 p.m. ET 10/12/21.

Docket Numbers:RP21-1178-000.

Applicants: Northern Natural Gas Company.

Description: § 4(d) Rate Filing: 20210930 Negotiated Rate to be effective 10/1/2021.

Filed Date:9/30/21.

Accession Number:20210930-5030.

Comment Date:5 p.m. ET 10/12/21.

Docket Numbers:RP21-1179-000.

Applicants: Trunkline Gas Company, LLC.

Description:§ 4(d) Rate Filing: Fuel Filing on 9-30-21 to be effective 11/1/2021.

Filed Date: 9/30/21.

Accession Number:20210930-5031.

Comment Date: 5 p.m. ET 10/12/21.

Docket Numbers: RP21-1180-000.

Applicants:Maritimes & Northeast Pipeline, L.L.C.

Description: § 4(d) Rate Filing: Negotiated Rates—Northern Utilities Releases to be effective 10/1/2021.

Filed Date:9/30/21.

Accession Number: 20210930-5032.

Comment Date: 5 p.m. ET 10/12/21.

Docket Numbers:RP21-1181-000.

Applicants: Panhandle Eastern Pipe Line Company, LP.

Description:§ 4(d) Rate Filing: Fuel Filing on 9-30-21 to be effective 11/1/2021.

Filed Date: 9/30/21.

Accession Number:20210930-5033.

Comment Date: 5 p.m. ET 10/12/21.

Docket Numbers: RP21-1182-000.

Applicants:Rover Pipeline LLC.

Description:§ 4(d) Rate Filing: Fuel Filing on 9-30-21 to be effective 11/1/2021.

Filed Date: 9/30/21.

Accession Number: 20210930-5034.

Comment Date: 5 p.m. ET 10/12/21.

Docket Numbers: RP21-1183-000.

Applicants:Alliance Pipeline L.P.

Description: § 4(d) Rate Filing: Negotiated Rates—Various October 1 Capacity Releases to be effective 10/1/2021.

Filed Date: 9/30/21.

Accession Number:20210930-5035.

Comment Date: 5 p.m. ET 10/12/21.

Docket Numbers: RP21-1184-000.

Applicants: Trunkline Gas Company, LLC.

Description: Compliance filing: Annual Report of Flow Through filed 9-30-21 to be effective N/A.

Filed Date: 9/30/21.

Accession Number: 20210930-5036.

Comment Date: 5 p.m. ET 10/12/21.

Docket Numbers: RP21-1185-000.

Applicants: Gulf South Pipeline Company, LLC.

Description: § 4(d) Rate Filing: Cap Rel Neg Rate Agmts (Atlanta Gas 8438 to various eff 10-1-2021) to be effective 10/1/2021.

Filed Date: 9/30/21.

Accession Number:20210930-5037.

Comment Date:5 p.m. ET 10/12/21.

Docket Numbers:RP21-1186-000.

Applicants: Tallgrass Interstate Gas Transmission, LLC.

Description: § 4(d) Rate Filing: TIGT 2021-09-30 Negotiated Rate Agreement Termination to be effective 10/1/2021.

Filed Date: 9/30/21.

Accession Number: 20210930-5074.

Comment Date: 5 p.m. ET 10/12/21.

Docket Numbers: RP21-1187-000.

Applicants: Eastern Gas Transmission and Storage, Inc.

Description: § 4(d) Rate Filing: EGTS—2021 Section 4 General Rate Case (1 of 3) to be effective 11/1/2021.

Filed Date: 9/30/21.

Accession Number: 20210930-5075.

Comment Date: 5 p.m. ET 10/12/21.

Docket Numbers: RP21-1188-000.

Applicants: Texas Eastern Transmission, LP.

Description: § 4(d) Rate Filing: TETLP SEP 2021 Rate Case Filing to be effective 11/1/2021.

Filed Date: 9/30/21.

Accession Number: 20210930-5076.

Comment Date: 5 p.m. ET 10/12/21.

Docket Numbers: RP21-1189-000.

Applicants: ANR Pipeline Company.

Description: § 4(d) Rate Filing: Penalty Revenue Crediting Report to be effective 11/1/2021.

Filed Date: 9/30/21.

Accession Number: 20210930-5078.

Comment Date: 5 p.m. ET 10/12/21.

Docket Numbers: RP21-1190-000.

Applicants: Southern Natural Gas Company, L.L.C.

Description: § 4(d) Rate Filing: SNG Housekeeping Filing 2021 to be effective 11/1/2021.

Filed Date: 9/30/21.

Accession Number: 20210930-5082.

Comment Date: 5 p.m. ET 10/12/21.

Docket Numbers: RP21-1191-000.

Applicants: Equitrans, L.P.

Description: § 4(d) Rate Filing: Formula Based Negotiated Rate—10/1/2021 Update to be effective 10/1/2021.

Filed Date: 9/30/21.

Accession Number: 20210930-5087.

Comment Date: 5 p.m. ET 10/12/21.

Docket Numbers: RP21-1192-000.

Applicants: Southern Natural Gas Company, L.L.C.

Description: § 4(d) Rate Filing: Spire South System Negotiated Rate to be effective 11/1/2021.

Filed Date: 9/30/21.

Accession Number: 20210930-5088.

Comment Date: 5 p.m. ET 10/12/21.

Docket Numbers: RP21-1193-000.

Applicants: MoGas Pipeline LLC.

Description: § 4(d) Rate Filing: MoGas Ameren Negotiated Rate Agreement Filing to be effective 11/1/2021.

Filed Date: 9/30/21.

Accession Number: 20210930-5089.

Comment Date: 5 p.m. ET 10/12/21.

Docket Numbers: RP21-1194-000.

Applicants: Columbia Gas Transmission, LLC.

Description: § 4(d) Rate Filing: VPSE—139080 Rev 4 Neg/Conf—Conf Agreement to be effective 10/1/2021.

Filed Date: 9/30/21.

Accession Number:20210930-5100.

Comment Date:5 p.m. ET 10/12/21.

Docket Numbers: RP21-1195-000.

Applicants: El Paso Natural Gas Company, L.L.C.

Description: § 4(d) Rate Filing: Negotiated Rate Agreements Filing (EOG_CIMA Nov 21) to be effective 11/1/2021.

Filed Date: 9/30/21.

Accession Number: 20210930-5103.

Comment Date:5 p.m. ET 10/12/21.

Docket Numbers: RP21-1196-000.

Applicants: LA Storage, LLC.

Description: § 4(d) Rate Filing: Filing of Negotiated Rate, Conforming IW Agreements 10.1.21 to be effective 10/1/2021.

Filed Date: 9/30/21.

Accession Number:20210930-5105.

Comment Date:5 p.m. ET 10/12/21.

Docket Numbers: RP21-1197-000.

Applicants: National Fuel Gas Supply Corporation.

Description: § 4(d) Rate Filing: GT&C Section 42 PS/GHG Tracker Filing to be effective 11/1/2021.

Filed Date: 9/30/21.

Accession Number:20210930-5137.

Comment Date:5 p.m. ET 10/12/21.

Docket Numbers: RP21-1198-000.

Applicants: Maritimes & Northeast Pipeline, L.L.C.

Description: § 4(d) Rate Filing: MNUS FRQ 2021 Filing to be effective 11/1/2021.

Filed Date: 9/30/21.

Accession Number: 20210930-5156.

Comment Date:5 p.m. ET 10/12/21.

Docket Numbers: RP21-1199-000.

Applicants: LA Storage, LLC.

Description: Annual Penalty Disbursement Report of LA Storage, LLC under RP21-1199.

Filed Date: 9/30/21.

Accession Number: 20210930-5160.

Comment Date: 5 p.m. ET 10/12/21.

Docket Numbers: RP21-1200-000.

Applicants: Cheniere Corpus Christi Pipeline, LP.

Description: Compliance filing: CCCP Semi-Annual Transportation Retainage Adjustment Filing to be effective 11/1/2021.

Filed Date: 9/30/21.

Accession Number: 20210930-5163.

Comment Date:5 p.m. ET 10/12/21.

Docket Numbers: RP21-1201-000.

Applicants: Dauphin Island Gathering Partners.

Description: § 4(d) Rate Filing: Negotiated Rate Filing 9-30-2021 to be effective 10/1/2021.

Filed Date: 9/30/21.

Accession Number: 20210930-5171.

Comment Date: 5 p.m. ET 10/12/21.

Docket Numbers: RP21-1202-000.

Applicants: Transcontinental Gas Pipe Line Company, LLC.

Description: § 4(d) Rate Filing: Negotiated Rates—Cherokee AGL—Replacement Shippers—Oct 2021 to be effective 10/1/2021.

Filed Date: 9/30/21.

Accession Number: 20210930-5174.

Comment Date: 5 p.m. ET 10/12/21.

Docket Numbers: RP21-1203-000.

Applicants: Rockies Express Pipeline LLC.

Description: § 4(d) Rate Filing: REX 2021-09-30 Definition and Service Request Revisions to be effective 11/1/2021.

Filed Date: 9/30/21.

Accession Number: 20210930-5181.

Comment Date: 5 p.m. ET 10/12/21.

Docket Numbers: RP21-1204-000.

Applicants: Transcontinental Gas Pipe Line Company, LLC.

Description: § 4(d) Rate Filing: Non-Conforming—MarketLink_Six One Vega to be effective 11/1/2021.

Filed Date: 9/30/21.

Accession Number:20210930-5187.

Comment Date: 5 p.m. ET 10/12/21.

Docket Numbers: RP21-1205-000.

Applicants: Dominion Energy Overthrust Pipeline, LLC.

Description: § 4(d) Rate Filing: WIC Non-conforming TSA Amendments to be effective 10/1/2021.

Filed Date: 9/30/21.

Accession Number:20210930-5196.

Comment Date: 5 p.m. ET 10/12/21.

Docket Numbers: RP21-1206-000.

Applicants: Columbia Gas Transmission, LLC.

Description:§ 4(d) Rate Filing: COR Non-Conform Agreement to be effective 11/1/2021.

Filed Date: 9/30/21.

Accession Number: 20210930-5199.

Comment Date:5 p.m. ET 10/12/21.

Docket Numbers: RP21-1207-000.

Applicants: MoGas Pipeline LLC.

Description: Annual Report on Revenue from Penalties Subject to Crediting of MoGas Pipeline LLC under RP21-1207.

Filed Date: 9/30/21.

Accession Number: 20210930-5211.

Comment Date: 5 p.m. ET 10/12/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers:RP21-1187-000.

Applicants: Eastern Gas Transmission and Storage, Inc.

Description: Report Filing: EGTS—2021 Section 4 General Rate Case (2 of 3) to be effective N/A.

Filed Date: 9/30/21.

Accession Number: 20210930-5091.

Comment Date: 5 p.m. ET 10/12/21.

Docket Numbers: RP21-1187-000.

Applicants: Eastern Gas Transmission and Storage, Inc.

Description: Report Filing: EGTS—2021 Section 4 General Rate Case (3 of 3) to be effective N/A.

Filed Date: 9/30/21.

Accession Number: 20210930-5096.

Comment Date: 5 p.m. ET 10/12/21.

Docket Numbers: RP21-867-001.

Applicants: Cheniere Corpus Christi Pipeline, LP.

Description: Compliance filing: RP21-867 Updated Cost and Revenue Study to be effective N/A.

Filed Date: 9/30/21.

Accession Number: 20210930-5097.

Comment Date: 5 p.m. ET 10/12/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2021.
Kimberly D. Bose,
Secretary.

[FR Doc. 2021-21944 Filed 10-6-21; 8:45 am]

BILLING CODE 6717-01-P